DEPARTMENT OF COMMERCE

National Telecommunications and Information Administration

Notice: TV Converter Box Coupon Program Public Meeting

AGENCY: National Telecommunications and Information Administration, U.S. Department of Commerce.

ACTION: Notice of Public Meeting.

SUMMARY: NTIA will hold a public meeting on January 24, 2008, in connection with its TV Converter Box Coupon Program described in the Final Rule that was released on March 12, 2007.¹

¹See Rules to Implement and Administer a Coupon Program for Digital-to-Analog Converter Boxes, 72 FR 12097 (March 15, 2007)

DATES: The meeting will be held on January 24, 2008, from 2 p.m. to 4 p.m., Eastern Standard Time.

ADDRESSES: The meeting will be held at the U.S. Department of Commerce, 1401 Constitution Avenue, N.W., Room 4830, Washington, D.C. (Please enter at 14th Street). The handicapped accessible entrance is located at the 14th Street Aquarium Entrance.

FOR FURTHER INFORMATION CONTACT: For further information regarding the meeting, contact Mary Lou Kenny, Partnership Manager, at (202) 482-9114.

SUPPLEMENTARY INFORMATION: NTIA will host a public meeting to discuss how to leverage existing communications channels within Federal departments and agencies to inform consumers about the digital television transition and the TV Converter Box Coupon Program. Detailed information about the Coupon Program is available at www.dtv2009.gov.

Because of space limitation, attendance will be determined on a first-come, first-served basis. The meeting will be physically accessible to people with disabilities. Individuals requiring special services, such as sign language interpretation or other ancillary aids, are asked to indicate this to Mary Lou Kenny at least two (2) days prior to the meeting. Members of the public will have an opportunity to ask questions at the meeting. Individuals who would like to submit questions in writing should e-mail their questions to Mary Lou Kenny at MKenny@ntia.doc.gov.

Dated: December 27, 2007.
Kathy D. Smith,
Chief Counsel, National Telecommunications and Information Administration.

[FR Doc. E7-25494 Filed 12-31-07; 8:45 am]

BILLING CODE 3510-60-S